DEPARTMENT OF AGRICULTURE

Animal and Plant Health Inspection Service

[Docket No. APHIS-2024-0049]

National Wildlife Services Advisory Committee; Meeting

AGENCY: Animal and Plant Health Inspection Service, USDA.

ACTION: Notice of public meeting.

SUMMARY: We are giving notice that the National Wildlife Services Advisory Committee will be holding a public meeting.

DATES: The public meeting will be held on October 29th and October 30th, 2024, from 8 a.m. to 5 p.m. (Mountain Daylight Time) each day.

Public and Written Comments: Due to time constraints, the public will not be allowed to participate in the discussions during the meeting: Written public comments will be accepted before and after the meeting but must be received no later than 11:59 p.m. (EST) on November 15th, 2024.

ADDRESSES: On October 29th and 30th the meeting will be held at the USDA office located at 2150 Centre Avenue, Building B: Fort Collins, CO 80526.

FOR FURTHER INFORMATION CONTACT: Ms. Carrie Joyce, Designated Federal Officer, Wildlife Services, APHIS, 4700 River Road Unit 87, Riverdale, MD 20737; (301) 851-3999; carrie.e.joyce@usda.gov.

SUPPLEMENTARY INFORMATION: The National Wildlife Services Advisory Committee (the Committee) advises the Secretary of Agriculture concerning policies, program issues, and research needed to conduct the Wildlife Services (WS) program. The Committee also serves as a public forum enabling those affected by the WS program to have a voice in the program's policies.

The meeting will focus on operational and research activities conducted by the WS program. The committee will discuss pertinent WS operational, research, and program activities, to increase program effectiveness and ensure that WS remains an active participant in the protection of agriculture, property, natural resources, and human health and safety.

The meeting will be open to the public. Attendees should arrive between 7:30 a.m. and 8:00 a.m. To gain access to the meeting, members of the public will need to pass through a security check that includes metal detection and have a valid Government issued photo identification.

Public and Written Comments

Due to time constraints, the public will not be allowed to participate in the discussions during the meeting: Written public comments will be accepted before and after the meeting but must be received no later than 11:59 p.m. (EST) on November 15th, 2024. Written comments may be filed with the Committee before or after the meeting by sending them to the person listed under FOR FURTHER INFORMATION CONTACT. Written comments may also be filed at the meeting. Please refer to Docket No. APHIS-2024-0049 when submitting your comments.

Reasonable Accommodations

If needed, please request reasonable accommodations no later than October 15, 2024, by contacting the person listed under FOR FURTHER INFORMATION CONTACT. Requests made after that date may be considered, but it may not be possible to fulfill them.

This notice of meeting is given pursuant to section 10 of the Federal Advisory Committee Act (5 U.S.C. 10).

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices, in accordance with USDA policies, will be followed in all membership appointments to the Committee. To ensure that the recommendations of the Committee have taken into account the needs of the diverse groups served by the Department, membership shall include, to the extent practicable, individuals with demonstrated ability to represent the many communities, identities, races, ethnicities, backgrounds, abilities, cultures, and beliefs of the American people, including underserved communities.

Date: August 26, 2024.
Cikena Reid,
USDA Committee Management Officer.

[FR Doc. 2024-19632 Filed 8-30-24; 8:45 am]

BILLING CODE 3410-34-P